DEPARTMENT OF COMMERCE

National Oceanic and Atmospheric Administration

RIN 0648-XA490

National Saltwater Angler Registry Program

AGENCY: National Marine Fisheries Service (NMFS), National Oceanic and Atmospheric Administration (NOAA), Commerce.

ACTION: Notice.

SUMMARY: NMFS has designated the state of New Jersey and the District of Columbia as exempted states for anglers, spear fishers and for-hire fishing vessels.

DATES: The designation of the states as exempted states is effective on June 24, 2011.

ADDRESSES: Gordon C. Colvin, Fishery Biologist, NMFS ST-12453, 1315 East-West Highway, Silver Spring, MD 20910.

FOR FURTHER INFORMATION CONTACT: Gordon C. Colvin, Fishery Biologist; (301) 427-8118; e-mail: Gordon.Colvin@noaa.gov.

SUPPLEMENTARY INFORMATION: The final rule implementing the National Saltwater Angler Registry Program, 50 CFR part 600, subpart P, was published in the Federal Register on December 30, 2008 (73 FR 79705). The final rule requires persons who are angling, spear fishing or operating a for-hire fishing vessel in the U.S. Exclusive Economic Zone or for anadromous species to register annually with NOAA. However, persons who are licensed or registered by, or state residents who are not required to register or hold a license issued by, a state that is designated as an exempted state are not required to register with NOAA. The final rule sets forth the requirements for states to be designated as exempted states. Generally, exempted states must agree to provide to NMFS names, addresses, dates of birth and telephone numbers of the persons licensed or registered under a qualifying state license and/or registry program, or to provide catch and effort data from a qualifying regional survey of recreational fishing, and enter into a Memorandum of Agreement with NMFS to formalize the data reporting agreement.

NMFS has received proposals for providing license/registry data from the states listed below, has determined that the states' programs qualify for exempted state designation under the provisions of the final rule, and has entered into Memoranda of Agreement with each of the states. Therefore, pursuant to 50 CFR 600.1415(b)(3), notice is hereby given that the following states are designated as exempted states under 50 CFR 600.1415: New Jersey and the District of Columbia. Persons who hold a valid fishing license or registration issued by these exempted states for angling, spear fishing or operating a for-hire fishing vessel in tidal waters are not required to register with NOAA under 50 CFR 600.1405(b). Persons who are residents of these exempted states who are not required to hold a fishing license, or to be registered to fish under the laws of these exempted states, also are not required to register with NOAA.

Dated: June 10, 2011.
Eric C. Schwaab,
Assistant Administrator for Fisheries, National Marine Fisheries Service.

[FR Doc. 2011-15893 Filed 6-23-11; 8:45 am]

BILLING CODE 3510-22-P